FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
26-APR-10 | 20100597 | G | PBF Energy Partners LP.
|  | G | Valero Energy Corporation.
|  | G | The Premcor Refining Group Inc.
|  | G | The Premcor Pipeline Company.
| 20100598 | G | AEA Investors 2006 Fund L.P.
|  | G | HMG Holdings, LLC.
|  | G | HMG Holdings, LLC.
| 20100602 | G | Vallourec SA.
|  | G | Lime Rock Partners II, L.P.
|  | G | Serimax Holdings, S.A.S.
27-APR-10 | 20100454 | G | David Black.
|  | G | Gannett Co., Inc.
|  | G | Hawaii Tourism, LLC.
|  | G | The Courier-Journal, Inc.
|  | G | Indiana Newspapers, Inc.
|  | G | Gannett Pacific Corporation, Inc.
|  | G | Gannett Satellite Information.
|  | G | Network, Inc.
| 20100588 | G | Apple Inc.
|  | G | Siri, Inc.
|  | G | Siri, Inc.
28-APR-10 | 20100606 | G | AIG Credit Facility Trust.
|  | G | Prudential plc.
|  | G | Prudential Group Limited.
29-APR-10 | 20100566 | G | Armor TPG Holdings LLC.
|  | G | Armstrong World Industries, Inc.
|  | G | Asbestos Personal Injury.
|  | G | Armstrong World Industries, Inc.
| 20100605 | G | Brookfield Special Situations II L.P.
|  | G | Ainsworth Lumber Co. Ltd.
|  | G | Ainsworth Lumber Co. Ltd.
| 20100609 | G | Halliburton Company.
|  | G | Boots & Coots, Inc.
|  | G | Boots & Coots, Inc.
30-APR-10 | 20100612 | G | SandRidge Energy, Inc.
|  | G | Arena Resources, Inc.
|  | G | Arena Resources, Inc.
| 20100614 | G | Kinder Morgan Energy Partners, L.P.
|  | G | KinderHawk Field Services LLC.
|  | G | KinderHawk Field Services LLC.
| 20100616 | G | Quantum Resources A1, LP.
|  | G | Denbury Resources Inc.
|  | G | Encore Operating, L.P.
| 20100619 | G | Rush Enterprises, Inc.
|  | G | Edward S. Pace.
|  | G | Lake City International Trucks.
|  | G | St. George, Inc.
|  | G | Lake City Trucks, LLC.
|  | G | Lake City Idealease, LLC.
|  | G | Lake City Companies, LLC.
|  | G | Red Rock Financial Services, LLC.
|  | G | RPBL Properties, LLC.
|  | G | BGS Investments, LLC.
|  | G | BGC Future, LLC.
|  | G | ESP Future, LLC.
| 20100621 | G | Mr. Li Shufu.
|  | G | Ford Motor Company.
|  | G | Volvo Cars of North America, LLC.
|  | G | Volvo Car Corporation.
| 20100625 | G | Banijay Holding S.A.S.
|  | G | Jonathan B. Murray.
|  | G | Bunim-Murray Productions.
|  | G | M Theory Entertainment, Inc.
|  | G | Mobility Production, Inc.
| 20100626 | G | OCP Trust.
|  | G | United States Infrastructure Holdings, Inc.
|  | G | United States Infrastructure Holdings, Inc.
03-MAY-10 | 20100581 | G | MHT AG.
|  | G | GEF Clean Technology Fund, L.P.
|  | G | Unirac, Inc.
| 20100628 | G | Warburg Pincus Private Equity X, L.P.
|  | G | AmRest Holdings SE.
|  | G | AmRest Holdings SE.
| 20100631 | G | Apache Corporation.
|  | G | Mariner Energy, Inc.
|  | G | Mariner Energy, Inc.
05-MAY-10 | 201 00603 | G | Maxim Integrated Products, Inc.
|  | G | Golden Gate Capital Investment Fund II, L.P.
|  | G | Teridian Semiconductor Holdings Corporation.
| 20100604 | G | JANA Master Fund, Ltd.
|  | G | Questar Corporation.
|  | G | Questar Corporation.
07-MAY-10 | 20100608 | G | Covenant Health.
|  | G | Morristown-Hamblen Hospital Association.
|  | G | Morristown-Hamblen Healthcare System.
| 20100630 | G | Emera Inc.
|  | G | Maine & Maritimes Corporation.
|  | G | Maine & Maritimes Corporation.
| 20100636 | G | Ceres Global Ag Corp.
|  | G | Whitebox Commodities Holding Corporation.
|  | G | Whitebox Commodities Holding Corporation.
| 20100637 | G | Oak Hill Capital Partners III L.P.
|  | G | Code Hennessy & Simmons IV LP.
|  | G | The Hillman Companies, Inc.
| 20100639 | G | Friedman Fleischer & Lowe Capital Partners, L.P.
|  | G | Friedman Fleischer & Lowe Capital Partners II, L.P.
|  | G | KS II Holdings, Inc.
| 20100646 | G | GTCR Fund IX/A, L.P.
|  | G | Johnson & Johnson.
|  | G | Artemis Medical, Inc.
|  | G | Ethicon Endo-Surgery.
| 20100649 | G | MDCPVI TU Holdings, LLC.
|  | G | TransUnion Corp.
|  | G | TransUnion Corp.
10-MAY-10 | 20100622 | G | H.I.G. Bayside Debt & LBO Fund II, L.P.
|  | G | FCC Investors, LLC.
|  | G | First Capital Holdings, Inc.
| 20100648 | G | Stifel Financial Corp.
|  | G | Thomas Weisel Partners Group, Inc.
|  | G | Thomas Weisel Partners Group, Inc.
11-MAY-10 | 20100624 | G | Constellation Energy Group, Inc.
|  | G | Navasota Funding Corporation.
|  | G | Navasota Wharton Energy LLC.
|  | G | Navasota Odessa Energy Partners LP.
|  | G | Navasota Wharton Energy Partners LP.
|  | G | Navasota Odessa Energy LLC.
| 20100643 | G | QBE Insurance Group Limited.
|  | G | The Lightyear Fund, L.P.
|  | G | Lightyear NAU Acquisition, Inc.
| 20100658 | G | ZHA FLNG, LLC.
|  | G | Freeport LNG Development, L.P.
|  | G | Freeport LNG Development, L.P.
13-MAY-10 | 20100650 | G | Aurora Resurgence Fund (C) L.P.
|  | G | Alexey Mordashov.
|  | G | Newco.
14-MAY-10 | 20090667 | G | Agilent Technologies, Inc.
|  | G | Varian, Inc.
|  | G | Varian, Inc.
| 20100493 | G | MSCI Inc.
|  | G | RiskMetrics Group, Inc.
|  | G | RiskMetrics Group, Inc.
| 20100655 | G | Danaher Corporation.
|  | G | Thoratec Corporation.
|  | G | International Technidyne Corporation.
| 20100659 | G | Theodore J. Leonsis.
|  | G | Washington Sports & Equipment Limited Partnership.
|  | G | Washington Sports & Equipment Limited Partnership.
| 20100662 | G | Oak Hill Capital Partners III, L.P.
|  | G | Wellspring Capital Partners III, L.P.
|  | G | Dave & Buster's Holdings, Inc.
| 20100663 | G | Iconix Brand Group, Inc.
|  | G | The Edward W. Scripps Trust.
|  | G | Character Licensing, LLC.
| 20100677 | G | Thomas H. Lee Equity Fund VI, L.P.
|  | G | Sterling Financial Corporation.
|  | G | Sterling Financial Corporation.
| 20100678 | G | Thomas H. Lee Parallel Fund VI, L.P.
|  | G | Sterling Financial Corporation.
|  | G | Sterling Financial Corporation.
17-MAY-10 | 20100618 | G | Adventist Health System Sunbelt Healthcare Corporation.
|  | G | University Community Hospital, Inc.
|  | G | University Community Hospital, Inc.
| 20100665 | G | The Procter & Gamble Company.
|  | G | John and Annie Rademakers.
|  | G | Natura Pet Products, Inc.
| 20100679 | G | Calpine Corporation.
|  | G | Pepco Holdings, Inc.
|  | G | Conectiv Energy Holding Company, LLC.
18-MAY-10 | 20100629 | G | North Short-Long Island Jewish Health System, Inc.
|  | G | LHH Corporation.
|  | G | Lenox Hill Hospital.
| 20100640 | G | Symantec Corporation.
|  | G | PGP Corporation.
|  | G | PGP Corporation.
| 20100660 | G | L'Oreal S.A.
|  | G | Esther Sue Weingarten.
|  | G | Essie Cosmetics, Ltd.
| 20100680 | G | Shield Topco S.a.r.l.
|  | G | Sophos plc.
|  | G | Sophos plc.
21-MAY-10 | 20100568 | G | Triumph Group, Inc.
|  | G | Carlyle Partners III, L.P.
|  | G | Vought Aircraft Industries, Inc.
| 20100569 | G | Carlyle Partners III, L.P.
|  | G | Triumph Group, Inc.
|  | G | Triumph Group, Inc.
| 20100620 | G | AMC Entertainment Holdings Inc.
|  | G | Providence Equity Partners IV L.P.
|  | G | ShowPlace Theatres Holding Company LLC.
| 20100634 | G | Columbus Topco Holdings, Inc.
|  | G | Fidelity Sedgwick Holdings, Inc.
|  | G | Fidelity Sedgwick Holdings, Inc.
| 20100654 | G | AIG Credit Facility Trust.
|  | G | MetLife, Inc.
|  | G | MetLife, Inc.
| 20100671 | G | Industrial Alliance Insurance and Financial Services Inc.
|  | G | Thoma Cressey Fund VI, L.P.
|  | G | American-Amicable Holding, Inc.
| 20100681 | G | KAG Holding Corp.
|  | G | Kenan Advantage Group Holdings Corp.
|  | G | Kenan Advantage Group Holdings Corp.
| 20100682 | G | Court Square Partners II, L.P.
|  | G | RWD Technologies Holdings, LLC.
|  | G | RWD Technologies, LLC.
| 20100688 | G | Apollo Investment Fund VII, L.P.
|  | G | CKE Restaurants, Inc.
|  | G | CKE Restaurants, Inc.
| 20100690 | G | Platinum Equity Capital Partners II, L.P.
|  | G | MegaPath Inc.
|  | G | MegaPath Inc.
| 20100697 | G | Church & Dwight Co., Inc.
|  | G | Anthony Moravec.
|  | G | Blairex Laboratories, Inc.
| 20100710 | G | Michael W. Ferro, Jr. Merge Healthcare Incorporated. Merge Healthcare Incorporated.
24-MAY-10 | 20100684 | G | Valeant Pharmaceuticals International.
|  | G | Princeton Pharma Holdings LLC.
|  | G | Princeton Pharma Holdings LLC.
| 20100685 | G | ABB Ltd.
|  | G | Trevor Lloyd.
|  | G | Ventyx Inc.
|  | G | Ventyx Software Inc.
|  | G | Ventyx Dutch Holdings B.V.
| 20100703 | G | Bank of America Corporation.
|  | G | Lorillard, Inc.
|  | G | Lorillard, Inc.
| 20100719 | G | CGI Group Inc.
|  | G | Stanley, Inc.
|  | G | Stanley, Inc.
26-MAY-10 | 20100695 | G | Jones Apparel Group, Inc.
|  | G | Jones Apparel Group, Inc.
|  | G | Stuart Weitzman Holdings, LLC.
| 20100711 | G | ABRY Partners VI, L.P.
|  | G | Leeds Equity Partners IV, L.P.
|  | G | Instituto de Banca y Comercio, Inc.
|  | G | Leeds IV Advisors, Inc.
27-MAY-10 | 20100641 | G | Cerberus Institutional Partners, L.P.
|  | G | DynCorp International Inc.
|  | G | DynCorp International Inc.
| 20100661 | G | Brown Shoe Company, Inc.
|  | G | Samuel and Louise Edelman.
|  | G | Edelman Shoe, Inc.
| 20100683 | G | Jack Henry & Associates, Inc.
|  | G | SEI V iPay AIV, L.P.
|  | G | iPay Technologies, LLC.
| 20100704 | G | Castle Harlan Partners V L.P.
|  | G | IDQ Holdings, Inc.
|  | G | IDQ Holdings, Inc.
28-MAY-10 | 20100686 | G | Bank of America Corporation.
|  | G | Microsoft Corporation.
|  | G | Microsoft Corporation.
| 20100706 | G | Providence Equity Partners V L.P.
|  | G | Dayton-Cox Trust A.
|  | G | AutoTrader.com, Inc.
| 20100707 | G | Providence Equity Partners VI-A L.P.
|  | G | Dayton-Cox Trust A.
|  | G | AutoTrader.com, Inc.
| 20100709 | G | American Financial Group, Inc.
|  | G | UniGroup, Inc.
|  | G | Vanliner Group, Inc.
| 20100713 | G | Cincinnati Bell Inc.
|  | G | ABRY Partners V, L.P.
|  | G | Cyrus Networks, LLC.
| 20100715 | G | Newco, c/o Warburg Pincus LLC.
|  | G | Pearson plc.
|  | G | Interactive Data Corporation.
| 20100716 | G | JLL Partners Fund VI, L.P.
|  | G | The Huron Fund II, L.P.
|  | G | Red Holdings, Inc.
| 20100717 | G | Industrial Growth Partners III, L.P.
|  | G | Fred H. Stubblefield, Jr.
|  | G | Controls Southeast, Inc.

FOR FURTHER INFORMATION CONTACT: Sandra M. Peay, Contact Representative or Renee Chapman, Contact Representative, Federal Trade Commission, Premerger Notification Office, Bureau of Competition, Room H-303, Washington, DC 20580, (202) 326-3100.

By Direction of the Commission.
Donald S. Clark,
Secretary.

[FR Doc. 2010-16065 Filed 7-2-10; 8:45 am]

BILLING CODE 6750-01-M